SMALL BUSINESS ADMINISTRATION

[License No. 03/03-0236]

Legg Mason SBIC Mezzanine Fund, L.P.; Notice Seeking Exemption Under Section 312 of the Small Business Investment Act, Conflicts of Interest

Notice is hereby given that Legg Mason SBIC Mezzanine Fund, L.P., 2330 W. Joppa Road, Suite 320, Lutherville, MD 21093, a Federal Licensee under the Small Business Investment Act of 1958, as amended (the “Act”), in connection with the financing of a small concern, has sought an exemption under Section 312 of the Act and Section 107.730, Financings which Constitute Conflicts of Interest of the Small Business Administration (“SBA”) Rules and Regulations (13 CFR 107.730). Legg Mason SBIC Mezzanine Fund, L.P. has provided equity financing to Die Cast Holdings, Inc., 3400 Wentworth Drive SW., Wyoming, MI 49509. The proceeds were used to recapitalize the company.

The financing is brought within the purview of § 107.730(a)(1) of the Regulations because an individual that was an employee of Legg Mason SBIC Mezzanine Fund, L.P.'s investment advisor at the time of the financing became an officer of Die Cast Holdings, Inc. within the six month period following the financing, and therefore this transaction is considered financing an Associate requiring SBA prior written exemption.

Notice is hereby given that any interested person may submit written comments on the transaction within fifteen days of the date of this publication to the Associate Administrator for the Office of Investment and Innovation, U.S. Small Business Administration, 409 Third Street SW., Washington, DC 20416.

Dated: February 25, 2015.
Javier E. Saade,
Associate Administrator for Office of Investment and Innovation.

[FR Doc. 2015-05321 Filed 3-6-15; 8:45 am]

BILLING CODE 8025-01-P